ENVIRONMENTAL PROTECTION AGENCY

[FRL OP-OFA-048]

Environmental Impact Statements; Notice of Availability

Responsible Agency: Office of Federal Activities, General Information 202-564-5632 or https://www.epa.gov/nepa.

Weekly receipt of Environmental Impact Statements (EIS)

Filed December 5, 2022 10 a.m. EST Through December 12, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220183, Draft, USACE, CA, Delta Conveyance Project, Comment Period Ends: 02/14/2023, Contact: Zachary Simmons 415-503-2951.

EIS No. 20220184, Final Supplement, USFS, MT, Telegraph Vegetation Project, Review Period Ends: 01/17/2023, Contact: Sharon Scott 406-495-3943.

EIS No. 20220185, Draft, NNSA, SC, Surplus Plutonium Disposition Program, Comment Period Ends: 02/14/2023, Contact: Maxcine Maxted 803-952-7434.

EIS No. 20220186, Final, TVA, TN, Moore County Solar, Review Period Ends: 01/17/2023, Contact: Ashley Pilakowski 865-632-2256.

EIS No. 20220187, Draft, BOEM, VA, Coastal Virginia Offshore Wind Commercial Project, Comment Period Ends: 02/14/2023, Contact: Bonnie L Houghton 703-438-5108.

EIS No. 20220188, Draft, BOEM, NY, Sunrise Wind Project, Comment Period Ends: 02/14/2023, Contact: Paige Foley 703-787-1584.

Amended Notice: EIS No. 20220143, Draft, USACE, NY, Draft Integrated Feasibility Report and Tier 1 Environmental Impact Statement, New York-New Jersey Harbor and Tributaries Coastal Storm Risk Management Feasibility Study, Comment Period Ends: 03/07/2023, Contact: Cheryl Alkemeyer 917-790-8723. Revision to FR Notice Published 10/07/2022; Extending the Comment Period from 01/06/2023 to 03/07/2023.

EIS No. 20220158, Draft, NNSA, CA, Draft Site-Wide Environmental Impact Statement for Continued Operation of the Lawrence Livermore National Laboratory, Comment Period Ends: 01/18/2023, Contact: Ms. Fana Gebeyehu-Houston 833-778-0508. Revision to FR Notice Published 11/04/2022; Extending the Comment Period from 01/03/2023 to 01/18/2023.

EIS No. 20220162, Draft, USDA, OR, Predator Damage Management in Oregon, Comment Period Ends: 01/03/2023, Contact: Kevin Christensen 503-820-2751. Revision to FR Notice Published 11/10/2022; Extending the Comment Period from 12/27/2022 to 01/03/2023.

Dated: December 12, 2022.
Cindy S. Barger,
Director, NEPA Compliance Division, Office of Federal Activities.

[FR Doc. 2022-27292 Filed 12-15-22; 8:45 am]

BILLING CODE 6560-50-P